DEPARTMENT OF HEALTH AND HUMAN SERVICES

Administration for Children and Families

Proposed Information Collection Activity; ORR-6 Performance Report (OMB #0970-0036)

AGENCY: Office of Refugee Resettlement, Administration for Children and Families, Health and Human Services (HHS).

ACTION: Request for public comment.

SUMMARY: The Administration for Children and Families (ACF), Office of Refugee Resettlement (ORR) is requesting a revision of the ORR-6 Performance Report (OMB #0970-0036, expiration 2/28/2022). Proposed revisions include new data collection primarily for the new Refugee Health Promotion (RHP) set-aside program, and reformatting and revisions of instructions and forms for clarity.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street, SW, Washington, DC 20201, Attn: ACF Reports Clearance Officer. All requests, emailed or written, should be identified by the title of the information collection.

SUPPLEMENTARY INFORMATION: Description: ACF/ORR requests information from the ORR-6 Performance Report to determine effectiveness of state Cash and Medical Assistance (CMA) and Refugee Support Services programs. ORR uses state-by-state CMA utilization rates, derived from the ORR-6 Performance Report, to formulate program initiatives, priorities, standards, budget requests, and assistance policies. Federal regulations require state Refugee Resettlement, Replacement Designee agencies, and local governments submit statistical or programmatic information that the ORR Director determines to be required to fulfill their responsibility under the Immigration and Nationality Act (INA). The existing ORR-6 was revised to include data collection for the new RHP set-aside program, add new data elements to better understand the meaning of existing data collection, and update the instructions and reformat some of the forms to provide clearer definitions and better distinguish the participation and performance results of different support services programs.

Respondents: State governments and Replacement Designees.

Annual Burden Estimates
Instrument | Total number of respondents | Total number of responses per respondent | Average burden hours per response | Total burden hours | Annual burden hours
ORR-6 Performance Report | 69 | 6 | 19 | 7,866 | 2,622

Estimated Total Annual Burden Hours: 2,622.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C 1522 of the Immigration and Nationality Act (the Act) (Title IV, Sec. 412 of the Act), and 45 CFR 400.28(b).

Mary B. Jones,
ACF/OPRE Certifying Officer.

[FR Doc. 2021-17246 Filed 8-11-21; 8:45 am]

BILLING CODE 4184-45-P